NATIONAL COMMISSION ON LIBRARIES AND INFORMATION SCIENCE (NCLIS)

Sunshine Act Meeting

AGENCY: National Commission on Libraries and Information Science.

ACTION: Notice of meeting.

SUMMARY: The U.S. National Commission on Libraries and Information Science is holding an open business meeting to discuss Commission programs and administrative matters with participation by most Commissioners primarily by conference call. Topics will include discussion about the NCLIS initiative regarding the role of libraries following the September 11th terrorist attack and updates of ongoing projects.

Date and Time: NCLIS Business Meeting—April 12, 2002, 10:00 a.m. until 12:00 Noon.

ADDRESSES: Conference Room, NCLIS Office, 1110 Vermont Avenue, NW., Suite 820, Washington, DC 20005.

Status: Open meeting.

FOR FURTHER INFORMATION CONTACT: Judith Russell, Deputy Director, U.S. National Commission on Libraries and Information Science, 1110 Vermont Avenue, NW, Suite 820, Washington, DC 20005, e-mail jrussell@nclis.gov;fax 202-606-9203; or telephone 202-606-9200.

SUPPLEMENTARY INFORMATION: The meeting is open to the public, subject to space availability. To make special arrangements for physically challenged persons, contact Judith Russell, Deputy Director, 1110 Vermont Avenue, NW., Suite 820, Washington, DC 20005, e-mail jrussell@nclis.gov; fax 202-606-9203; or telephone 202-606-9200.

Dated: March 28, 2002.
Robert S. Willard,
NCLIS Executive Director.

[FR Doc. 02-8030 Filed 3-29-02; 10:29 am]

BILLING CODE 7527-$$-P